NATIONAL ARCHIVES AND RECORDS ADMINISTRATION

[NARA-2013-032]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 2, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of the Census (DAA-0029-2013-0004, 5 items, 4 temporary items). Records relating to reports compiled for outside entities on a reimbursable basis. Proposed for permanent retention historically significant surveys.

2. Department of Defense, Defense Contract Management Agency (DAA-0558-2013-0003, 1 item, 1 temporary item). Contract management files relating to such matters as payments, performance, quality assurance, and product acceptance.

3. Department of Defense, Defense Contract Management Agency (DAA-0558-2013-0005, 2 items, 2 temporary items). Records relating to agency financial matters such as disbursements, procurement, and cost accounting.

4. Department of Defense, Defense Finance and Accounting Service (DAA-0507-2013-0003, 3 items, 3 temporary items). Records related to retirement plan deductions from military payroll.

5. Department of Defense, Office of the Secretary of Defense (DAA-0330-2013-0004, 1 item, 1 temporary item). Master files of an electronic information system used to support and monitor a hearing conservation program.

6. Department of Defense, Office of the Secretary of Defense (DAA-0330-2013-0010, 2 items, 2 temporary items). Master files of an electronic information system used for managing clinical dietetic and food production service information.

7. Department of Homeland Security, U.S. Citizenship and Immigration Services (DAA-0566-2013-0001, 2 items, 2 temporary items). Applications for employment authorizations when not submitted with another immigration application.

8. Department of the Interior, Bureau of Land Management (DAA-0049-2013-0001, 1 item, 1 temporary item). Master files of an electronic information system used to manage emergency responder qualification and certification records.

9. Department of Justice, Federal Bureau of Investigation (N1-65-11-41, 2 items, 2 temporary items). Master files and usage agreements of an information system used to support joint task forces sponsored by the agency.

10. Department of Justice, Justice Management Division (DAA-0060-2012-0006, 4 items, 3 temporary items). Records of a health care fraud control program, including funds allocation and program certification. Proposed for permanent retention are annual program reports.

11. Department of Labor, Employee Benefits Security Administration (N1-317-13-1, 2 items, 2 temporary items). Records that contain Federal tax information relating to employee benefits.

12. Department of State, Bureau of Administration (N1-59-10-09, 9 items, 9 temporary items). Records of the Office of Emergency Management including program files, routine reports, correspondence, and emergency operation files for domestic facilities.

13. Department of State, Bureau of Diplomatic Security (N1-59-10-19, 13 items, 10 temporary items). Records of the Office of Special Programs and Coordination including administrative materials, memorandums, program records, event coordination files, and emergency action plans. Proposed for permanent retention are assessment reports.

14. Department of the Treasury, Internal Revenue Service (DAA-0058-2013-0005, 1 item, 1 temporary item). Records used to document tax compliance and resolution actions.

15. Department of the Treasury, Internal Revenue Service (DAA-0058-2013-0006, 1 item, 1 temporary item). Records used to manage tax return processing activities.

16. Department of the Treasury, Internal Revenue Service (DAA-0058-2013-0008, 2 items, 2 temporary items). Records used to manage and analyze information technology security data and systems.

17. Advisory Council on Historic Preservation, Agency-wide (DAA-0536-2013-0001, 2 items, 1 temporary item). Non-winning nomination files for the Preserve America Presidential Award. Proposed for permanent retention are award files for successful nominations.

18. Architectural and Transportation Barriers Compliance Board, Agency-wide (DAA-0588-2013-0001, 5 items, 2 temporary items). Photographs and video recordings that document routine activities such as award ceremonies, social events, training, and informational sessions. Proposed for permanent retention are historical photographs and video recordings.

19. Jamestown 400th Commemoration Commission, Agency-wide (N1-220-13-1, 17 items, 7 temporary items). Administrative and background records including financial records, draft publications, research material, and working files. Proposed for permanent retention are significant correspondence, final reports and publications, audio visual material, and the commission's Web site.

20. National Archives and Records Administration, Research Services (N2-288-12-1, 1 item, 1 temporary item). Records of the National Endowment for the Arts comprising program grant case files from 1965 to 1996. These records were accessioned to the National Archives but lack sufficient historical value to warrant continued preservation.

21. National Archives and Records Administration, Research Services (DAA-0064-2013-0001, 1 item, 1 temporary item). Records include federal agencies' Web site snapshots and related documentation harvested in the 2001 Web Snapshot Initiative Project.

22. Occupational Safety and Health Review Commission, Office of the Executive Secretary (N1-455-11-3, 2 items, 2 temporary items). Published Internet Web site content and Web site design records.

Dated: June 27, 2013.
Laurence Brewer,
Director, National Records Management Program.

[FR Doc. 2013-16003 Filed 7-2-13; 8:45 am]

BILLING CODE 7515-01-P